DEPARTMENT OF THE INTERIOR

Fish and Wildlife Service

Notice of Availability of the Draft Comprehensive Conservation Plan and Environmental Assessment for Sabine National Wildlife Refuge

AGENCY: Fish and Wildlife Service, Interior.

ACTION: Notice of availability.

SUMMARY: The Fish and Wildlife Service announces that a Draft Comprehensive Conservation Plan and Environmental Assessment (Draft CCP/EA) for Sabine National Wildlife Refuge is available for distribution. This Draft CCP/EA also covers the East Cove Unit of Cameron Prairie National Wildlife Refuge. The National Wildlife Refuge System Administration Act of 1966, as amended by the National Wildlife Refuge System Improvement Act of 1997, requires the Service to develop a comprehensive conservation plan for each national wildlife refuge. This Draft CCP, when final, will describe how the Service intends to manage Sabine National Wildlife Refuge over the next 15 years.

DATES: Written comments must be received at the postal address listed below no later than July 30, 2007.

ADDRESSES: To provide written comments or to obtain a copy of the Draft CCP/EA, please write to: Southwest Louisiana National Wildlife Refuge Complex, Sabine National Wildlife Refuge, 1428 Highway 27, Bell City, Louisiana 70630; or telephone: 337-598-2216. The Draft CCP/EA may also be accessed and downloaded from the Service's Internet Site: http://southeast.fws.gov/planning/.

SUPPLEMENTARY INFORMATION: Public Availability of Comments: Before including your address, phone number, e-mail address, or other personal identifying information in your comment, you should be aware that your entire comment, including your personal identifying information, may be made publicly available at any time. While you can ask us in your comment to withhold your personal identifying information from public review, we cannot guarantee that we will be able to do so.

Background: Sabine National Wildlife Refuge was established by Executive Order 7764, dated December 6, 1937, stating the official purpose of the refuge was, “* * * as a refuge and breeding ground for migratory birds and other wildlife.” A secondary purpose of the refuge is “* * * for use as an inviolate sanctuary, or for any other management purpose, for migratory birds” [16 U.S.C. 715d (Migratory Bird Conservation Act)].

Sabine National Wildlife Refuge is one of four refuges that comprise the Southwest Louisiana National Wildlife Refuge Complex. It is located eight miles south of Hackberry on State Highway 27 in Cameron Parish, Louisiana. The refuge currently occupies the marshes between Calcasieu and Sabine Lakes and consists of 125,790 acres of open water and marsh grassland. The East Cove Unit, originally established as part of Sabine National Wildlife Refuge, was administratively transferred to Cameron Prairie National Wildlife Refuge in 1992. The East Cove Unit, also in Cameron Parish, consists of 14,927 acres of brackish to intermediate marsh, bordered on the west by Calcasieu Lake, and on the north, east, and south by privately owned marshes. The East Cove Unit is also part of the Cameron Creole Watershed Project, a cooperative effort among local, State, and Federal agencies and the private sector to restore 64,000 acres of marsh in Cameron Parish. The Service manages the Cameron Creole Watershed Project under cooperative agreement among sponsors. The overall focus area to be evaluated in this Draft CCP/EA totals 140,717 acres.

Significant issues addressed in the Draft CCP/EA include: Recovery from damages incurred by Hurricane Rita; management of migratory birds, with special emphasis on waterfowl (especially northern pintails and mottled ducks); management and restoration of unique coastal wetland habitats; management of oil and gas activities; access management for public use activities, including recreational freshwater sportfishing and hunting; and protection of cultural resources.

Also addressed in the Draft CCP/EA are compatibility determinations for the following uses: (1) Recreational freshwater sportfishing; (2) recreational sportfishing tournaments; (3) recreational hunting; (4) environmental education and interpretation; (5) wildlife observation and photography; (6) research and monitoring; (7) commercial alligator harvest; (8) commercial video and photography; (9) commercially guided wildlife viewing, photography, environmental education, and interpretation; and (10) beneficial use of dredge material.

Alternatives: The Service developed three alternatives for management of the refuge (alternatives A, B, and C), with Alternative B as the proposed alternative. We believe this alternative will be the most effective one to contribute to the purpose for which the refuge was established and to the mission of the National Wildlife Refuge System.

Alternative A, also called the “No Action” alternative, is the baseline or status quo of refuge programs and is usually a continuation of current planning unit objectives and management strategies, with no changes or changes that would have occurred without the CCP. Sabine Refuge, which was severely affected by Hurricane Rita in September 2005, is currently closed to most activities other than essential operations, and hurricane clean-up and restoration activities.

Non-essential programs, such as public use, would cease. Research monitoring activities and the fire program, including both prescribed fire as well as extinguishing wildfires, would continue. Hazardous debris removal and Coastal Wetlands Planning, Protection and Restoration Act projects would continue. Oil and gas operations would continue. Law enforcement operations would increase to ensure that the more than 300,000 annual visitors who normally use the refuge comply with the closure. Sabine Refuge staff would function at an office located off-site. Cultural resources would continue to be protected. As hurricane recovery is accomplished, the refuge would essentially be managed as it was prior to the devastation from the historic storm. The East Cove Unit would continue to be managed under an inter-agency management agreement.

Alternative B, our proposed alternative, would continue to keep the refuge operational with minimal public use programs functional but at a reduced cost (near-term). It would increase marsh restoration, enhance fish and wildlife management, and expand public use (long-term).

Over the near-term, programs would continue throughout the refuge commensurate with the levels of hazardous material clean-up and restoration. Over time, public use areas would be re-opened as repairs to infrastructure and restoration of habitat occur. Fire and research programs would remain active. Existing oil and gas operations would continue at the normal level, but new operations would be closely assessed under Service regulations and Federal laws. Staff assigned to the refuge would function out of a hurricane-resistant building to be located at the original headquarters site.

Over the long-term, under Alternative B, Sabine Refuge would increase marsh restoration and enhance wildlife management, stepping up these efforts from current levels. Like Alternative A, Alternative B would maintain salinity monitoring throughout the refuge at established discrete salinity stations. Improving water quality would be a major thrust for the refuge. The refuge would provide additional opportunities for friends, volunteers, partners, and interns to assist the refuge.

Management of the East Cove Unit under Alternative B would be identical to Alternative A. Gates at the water control structures would be operated to restore preferred vegetated plant communities associated with intermediate or possibly slightly brackish environments. Staff would evaluate the use of terraces to improve vegetation of open-water areas. During the life of the CCP, an assessment would be conducted to determine the need for sanctuary in the East Cove Unit, which would minimize detrimental waterfowl disturbances. The invasion of exotic plant species, with special emphasis on giant salvinia, would be monitored. Public fishing access to the East Cove Unit would be improved.

Alternative C would hold the refuge in custodial form. Major restoration and recovery efforts from devastation caused by Hurricane Rita would be curtailed. The fire and research programs would remain active throughout the refuge. Oil and gas operations would continue at the current level. No active habitat management would occur. Instead, refuge and complex staff would serve as good caretakers or custodians of the refuge, observing and monitoring the natural forces and ecological succession that would shape its habitats and effectively determine their suitability for wildlife. The Service would conduct no prescribed fire and would limit fire management to hazardous fuel reduction and suppression of wildfires. There would be no need to replace and upgrade equipment and facilities, such as pumps, tractors, and water control structures. This alternative would result in very little effective high-quality waterfowl sanctuary. That is, high ground would succeed to a mix of Chinese tallow, willow, and hackberry, while lower ground reverted to dense stands of maidencane. There would be few open areas.

With regard to public use, each of the six priority public uses would be strongly encouraged but facilities would be limited. Management of cultural resources and the East Cove Unit under Alternative C would be identical to Alternatives A and B.

FOR FURTHER INFORMATION CONTACT: Judy McClendon, Natural Resource Planner, Telephone: 870/347-2074, Extension 43; Fax: 870/347-2908; or electronically at: Judy_McClendon@fws.gov.

Authority: This notice is published under the authority of the National Wildlife Refuge System Improvement Act of 1997, Public Law 105-57.

Dated: April 30, 2007.
Cynthia K. Dohner,
Acting Regional Director.

[FR Doc. E7-12628 Filed 6-28-07; 8:45 am]

BILLING CODE 4310-55-P